DEPARTMENT OF TRANSPORTATION

Federal Aviation Administration

14 CFR Part 39

[Docket No. FAA-2024-0459; Project Identifier MCAI-2024-00117-T; Amendment 39-22696; AD 2024-05-05]

RIN 2120-AA64

Airworthiness Directives; ATR—GIE Avions de Transport Régional Airplanes; Correction

AGENCY: Federal Aviation Administration (FAA), DOT.

ACTION: Final rule; request for comment; correction.

SUMMARY: The FAA is correcting an airworthiness directive (AD) that was published in the Federal Register. That AD applies to all ATR-GIE Avions de Transport Regional Model ATR42 and ATR72 airplanes. As published, the docket number specified in the preamble and regulatory text is incorrect. This document corrects that error. In all other respects, the original document remains the same.

DATES: This correction is effective March 29, 2023. The effective date of AD 2024-05-05 remains March 29, 2023. The date for submitting comments on AD 2024-05-05 remains April 29, 2023.

The Director of the Federal Register approved the incorporation by reference of a certain publication listed in this AD as of March 29, 2023 (89 FR 18534, March 14, 2024).

ADDRESSES:

AD Docket: You may examine the AD docket at regulations.gov under Docket No. FAA-2024-0459; or in person at Docket Operations between 9 a.m. and 5 p.m., Monday through Friday, except Federal holidays. The AD docket contains this final rule; request for comment; correction, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For material incorporated by reference in this AD, contact EASA, Konrad-Adenauer-Ufer 3, 50668 Cologne, Germany; telephone +49 221 8999 000; email ADs@easa.europa.eu; website easa.europa.eu. You may find this IBR material on the EASA website at ad.easa.europa.eu.

• You may view this material at the FAA, Airworthiness Products Section, Operational Safety Branch, 2200 South 216th St., Des Moines, WA. For information on the availability of this material at the FAA, call 206-231-3195. It is also available in the AD docket at regulations.gov under Docket No. FAA-2024-0459.

FOR FURTHER INFORMATION CONTACT: Shahram Daneshmandi, Aviation Safety Engineer, FAA, 1600 Stewart Avenue, Suite 410, Westbury, NY 11590; telephone: 206-231-3220; email: Shahram.Daneshmandi@faa.gov.

SUPPLEMENTARY INFORMATION:

Comments Invited

The FAA invites you to send any written relevant data, views, or arguments about AD 2024-05-05. Submit comments as instructed in AD 2024-05-05, Amendment 39-22696 (89 FR 18534, March 14, 2024).

Background

AD 2024-05-05 requires accomplishing a functional check of an affected part, replacing an affected part if necessary, and reporting the functional check results, and prohibits the installation of affected parts. That AD applies to all ATR—GIE Avions de Transport Régional Model ATR42 and ATR72 airplanes.

Need for the Correction

As published, the docket number specified in the preamble and regulatory text of AD 2024-05-05 is incorrect. The correct docket number is FAA-2024-0459.

Related Service Information Under 1 CFR Part 51

EASA Emergency AD 2024-0044-E specifies the following procedures:

• Accomplishing a functional check of an affected part.

• Replacing an affected part with a serviceable part, if any discrepancy is detected during the functional check. (A discrepancy is any amount of air that flows through either connector of the right engine extinguishing system when compressed air is passed through either connector of the left engine extinguishing system, and vice versa.)

• Reporting inspection (i.e., functional check) results to the airplane manufacturer.

• Prohibiting the installation of affected parts.

This material is reasonably available because the interested parties have access to it through their normal course of business or by the means identified in the ADDRESSES section.

Correction of Publication

This document corrects an error in multiple locations in AD 2024-05-05 and correctly adds the AD as an amendment to 14 CFR 39.13. Although no other part of the preamble or regulatory information has been corrected, the FAA is publishing the entire rule in the Federal Register.

The effective date of this AD remains March 29, 2023.

Since this action only corrects the docket number for AD 2024-05-05, it has no adverse economic impact and imposes no additional burden on any person. Therefore, the FAA has determined that notice and public procedures are unnecessary.

List of Subjects in 14 CFR Part 39

Air transportation, Aircraft, Aviation safety, Incorporation by reference, Safety.

Adoption of the Amendment

Accordingly, pursuant to the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Corrected]

2. The FAA amends § 39.13 by adding the following new airworthiness directive:

2024-05-05 ATR—GIE Avions de Transport Régional: Amendment 39-22696; Docket No. FAA-2024-0459; Project Identifier MCAI-2024-00117-T.

(a) Effective Date

This airworthiness directive (AD) is effective March 29, 2024.

(b) Affected ADs

None.

(c) Applicability

This AD applies to all ATR—GIE Avions de Transport Régional airplanes specified in paragraphs (c)(1) and (2) of this AD, certificated in any category.

(1) Model ATR42-200, -300, -320, and -500 airplanes.

(2) Model ATR72-101, -102, -201, -202, -211, -212, and -212A airplanes.

(d) Subject

Air Transport Association (ATA) of America Code 26, Fire Protection.

(e) Unsafe Condition

This AD was prompted by a report of incorrect marking and assembly of the two-way valves for the left- and right-hand engine fire extinguishing systems. The FAA is issuing this AD to address inoperative two-way valves in both engine fire extinguishing systems. This condition, if not addressed, could lead to reduced performance of the engine fire extinguishing system, which could result in loss of control of the airplane.

(f) Compliance

Comply with this AD within the compliance times specified, unless already done.

(g) Requirements

Except as specified in paragraph (h) of this AD: Comply with all required actions and compliance times specified in, and in accordance with, European Union Aviation Safety Agency (EASA) Emergency AD 2024-0044-E, dated February 15, 2024 (EASA AD 2024-0044-E).

(h) Exceptions to EASA AD 2024-0044-E

(1) Where EASA AD 2024-0044-E refers to its effective date, this AD requires using the effective date of this AD.

(2) Paragraph (4) of EASA AD 2024-0044-E specifies to report inspection results to ATR—GIE Avions de Transport Régional within a certain compliance time. For this AD, report inspection (i.e., functional check) results at the applicable time specified in paragraph (h)(2)(i) or (ii) of this AD.

(i) If the inspection was done on or after the effective date of this AD: Submit the report within 30 days after the inspection.

(ii) If the inspection was done before the effective date of this AD: Submit the report within 30 days after the effective date of this AD.

(3) This AD does not adopt the “Remarks” section of EASA AD 2024-0044-E.

(i) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, mail it to the address identified in paragraph (j) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or EASA; or ATR—GIE Avions de Transport Régional's EASA Design Organization Approval (DOA). If approved by the DOA, the approval must include the DOA-authorized signature.

(j) Additional Information

For more information about this AD, contact Shahram Daneshmandi, Aviation Safety Engineer, FAA, 1600 Stewart Avenue, Suite 410, Westbury, NY 11590; telephone: 206-231-3220; email: Shahram.Daneshmandi@faa.gov.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on March 29, 2024 (89 FR 18534, March 14, 2024).

(i) European Union Aviation Safety Agency (EASA) Emergency AD 2024-0044-E, dated February 15, 2024.

(ii) [Reserved]

(4) For EASA AD 2024-0044-E, contact EASA, Konrad-Adenauer-Ufer 3, 50668 Cologne, Germany; telephone +49 221 8999 000; email ADs@easa.europa.eu; website easa.europa.eu. You may find this EASA ADs on the EASA website at ad.easa.europa.eu.

(5) You may view this service information at the FAA, Airworthiness Products Section, Operational Safety Branch, 2200 South 216th St., Des Moines, WA. For information on the availability of this material at the FAA, call 206-231-3195.

(6) You may view this material at the National Archives and Records Administration (NARA). For information on the availability of this material at NARA, visit www.archives.gov/federal-register/cfr/ibr-locations, or email fr.inspection@nara.gov.

Issued on March 20, 2024.
Victor Wicklund,
Deputy Director, Compliance & Airworthiness Division, Aircraft Certification Service.

[FR Doc. 2024-06282 Filed 3-25-24; 8:45 am]

BILLING CODE 4910-13-P